DEPARTMENT OF COMMERCE

National Oceanic and Atmospheric Administration

[I.D. 071702C]

Caribbean Fishery Management Council; Public Meeting

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on August 14-15, 2002. The Council will convene on Wednesday, August 14, 2002, from 9 a.m. to 4 p.m., and the Administrative Committee will meet from 4:15 p.m. to 5:30 p.m. On Thursday, August 15, 2002, the Council will meet from 9 a.m. to 5 p.m., approximately.

ADDRESSES: The meetings will be held at the Divi Carina Bay Resort and Carina, in 25 Estate Turnerhole, Christiansted, St. Croix, USVI.

FOR FURTHER INFORMATION CONTACT: Caribbean Fishery Management Council, 268 Muñoz Rivera Avenue, Suite 1108, San Juan, Puerto Rico 00918-2577, telephone: (787) 766-5926.

SUPPLEMENTARY INFORMATION: The Council will hold its 109th regular public meeting to discuss the items contained in the following agenda:

August 14, 2002, 9 a.m.-5:30 p.m.

Call to Order

Election of Officials

Adoption of Agenda

Consideration of 108th Council Meeting Verbatim Transcription

Sustainable Fisheries Act Comprehensive Amendment

Essential Fish Habitat-Environmental Impact Assessment Progress Report

4:15 p.m.-5:30 p.m.

Administrative Committee Meeting

-Advisory Panel/SSC/HAP Membership

-Budget Projection

-Personnel Retirement Issues

-Other Business

August 15, 2002, 9 a.m.-5 p.m.

Queen Conch Fishery Management Plan

-Data Update - Monica Valle

-Recovery Plan

-Revision Queen Conch Amendment

Reeffish Fishery Management Plan

-Aquarium Trade

Enforcement

-Federal Government

-Puerto Rico

-U.S. Virgin Islands

-U.S. Coast Guard

Administrative Committee Meeting Recommendations

Stock Assessment Review Committee Meeting

Meetings Attended by Council Members and Staff

Other Business

Next Council Meeting

The meetings are open to the public, and will be conducted in English. Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. For more information or request for sign language interpretation and/other auxiliary aids, please contact Mr. Miguel A. Rolón, Executive Director, Caribbean Fishery Management Council, 268 Muñoz Rivera Avenue, Suite 1108, San Juan, Puerto Rico 00918-2577, telephone: (787) 766-5926, at least 5 days prior to the meeting date.

Dated: July 24, 2002.
Richard W. Surdi,
Acting Director, Office of Sustainable Fisheries, National Marine Fisheries Service.

[FR Doc. 02-19113 Filed 7-26-02; 8:45 am]

BILLING CODE 3510-22-S